DEPARTMENT OF THE INTERIOR

Bureau of Land Management

[LLORV00000.L10200000.DF0000.LXSSH1050000.17X.HAG 17-0077]

Notice of Public Meeting for the Southeast Oregon Resource Advisory Council, Lands With Wilderness Characteristics Subcommittee

AGENCY: Bureau of Land Management, Interior.

ACTION: Notice.

SUMMARY: In accordance with the Federal Land Policy and Management Act and the Federal Advisory Committee Act of 1972, the Bureau of Land Management's (BLM) Southeast Oregon Resource Advisory Council (RAC), Lands with Wilderness Characteristics (LWC) Subcommittee will meet as indicated below.

DATES: The Southeast Oregon RAC, LWC Subcommittee will hold a public meeting via teleconference on Wednesday, March 15, 2017, from 1 p.m. to 3 p.m. The final agenda will be released online no later than March 7, 2017, at https://www.blm.gov/site-page/get-involved-resource-advisory-council-near-you-oregon-washington-southeast-oregon-rac%20.

ADDRESSES: Members of the public can call in to the meeting using the telephone conference line number 1-866-524-6456, Participant Code: 608605. They may also listen in at the Lakeview BLM District Office, 1301 S. G Street, Lakeview, OR 97630. Written comments should be addressed to Don Gonzalez, RAC DFO, BLM Vale District Office, 100 Oregon St., Vale, OR 97918.

FOR FURTHER INFORMATION CONTACT: Larisa Bogardus, Public Affairs Officer, BLM Lakeview District Office, 1301 S. G Street, Lakeview, Oregon 97630, (541) 947-6237 or lbogardus@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The Southeast Oregon RAC consists of 15 members chartered and appointed by the Secretary of the Interior. Their diverse perspectives are represented in commodity, conservation, and general interests. They provide advice to BLM resource managers regarding management plans and proposed resource actions on public land in southeast Oregon. This meeting will be open to the public. If you wish to distribute information to the LWC Subcommittee, please provide it in advance of the meeting to Mr. Gonzales at the address listed in the ADDRESSES section above.

Agenda items for this meeting include discussing possible management approaches for areas identified by the BLM as Lands with Wilderness Characteristics for a subsequent recommendation to the full Southeast Oregon RAC as part of the Vale and Lakeview districts' respective Resource Management Plan Amendment(s) process. Any other matters that may reasonably come before the Southeast Oregon RAC LWC Subcommittee may also be addressed.

A public comment period will be available during the meeting at a time to be posted in the final agenda. Unless otherwise approved by the Southeast Oregon RAC, LWC Subcommittee chair, the public comment period will last no longer than 30 minutes, and each speaker may address the Southeast Oregon RAC LWC Subcommittee for a maximum of 5 minutes. Meeting times and the duration scheduled for public comment periods may be extended or altered when the authorized representative considers it necessary to accommodate necessary business and all who seek to be heard regarding matters before the Southeast Oregon RAC, LWC Subcommittee.

Before including your address, phone number, email address, or other personal identifying information in your comments, please be aware that your entire comment, including your personal identifying information, may be made publicly available at any time. While you can ask us in your comment to withhold your personal identifying information from public review, we cannot guarantee that we will be able to do so.

Shane DeForest,
Vale District Manager.

[FR Doc. 2017-04570 Filed 3-7-17; 8:45 am]

BILLING CODE 4310-33-P